UNITED STATES POSTAL SERVICE BOARD OF GOVERNORS

Sunshine Act Meeting

Time and Date: 11 a.m., Tuesday, March 4, 2008.

Place: Washington, DC, at U.S. Postal Service Headquarters, 475 L'Enfant Plaza, SW.

Status: Closed.

Matters to be Considered:

Tuesday, March 4 at 11 a.m. (Closed)

1. Strategic Issues.

2. Product Pricing.

3. Financial Update.

4. Personnel Matters and Compensation Issues.

5. Governors' Executive Session—Discussion of prior agenda items and Board Governance.

Contact Person for More Information: Wendy A. Hocking, Secretary of the Board, U.S. Postal Service, 475 L'Enfant Plaza, SW., Washington, DC 20260-1000. Telephone (202) 268-4800.

Wendy A. Hocking,
Secretary.

[FR Doc. 08-890 Filed 2-25-08; 3:50 pm]

BILLING CODE 7710-12-M